FEDERAL COMMUNICATIONS COMMISSION

Radio Broadcasting Services; AM or FM Proposals To Change the Community of License

AGENCY: Federal Communications Commission.

ACTION: Notice.

SUMMARY: The following applicants filed AM or FM proposals to change the community of license: Educational Radio for the Public of the New Millennium, Station WRJI, Facility ID 93884, BPED-20101126AAP, From East Greenwich, RI, to Providence, RI; Franciscan University of Steubenville, Station NEW, Facility ID 171722, BMPED-20101129APH, From Hopedale, OH, To Wintersville, OH; Grace Broadcasting Services, Inc., Station WFGZ, Facility ID 50126, BPH-20101122AKC, From Lobelville, TN, to Burns, TN; Millennium Broadcasting Corp, Station KYZQ, Facility ID 121233, BMPED-20101116BHB, From Mount Pleasant, TX, To Mount Vernon, TX; Moberly/Macon License Co, LLC, Station NEW, Facility ID 183331, BNPH-20091019ABJ, From Moberly, MO, To Cairo, MO; Sanpete County Broadcasting Co., Station KLGL, Facility ID 41895, BPH-20101206AAK, From richfield, UT, to Mount Pleasant, UT; Sierra Radio, Inc., Station KTOR, Facility ID 82891, BPH-20101123ASC, From Westwood, CA, To Gerber, CA; Western New Life, Inc., Station WQML, Facility ID 183333, BMPH-20101202ABW, From Charlotte Amalie, VI, To Culebra, PR.

DATES: Comments may be filed through March 14, 2011.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. 2011-563 Filed 1-12-11; 8:45 am]

BILLING CODE 6712-01-P